DEPARTMENT OF HEALTH AND HUMAN SERVICES

National Institutes of Health

Eunice Kennedy Shriver National Institute of Child Health & Human Development; Amended Notice of Meeting

Notice is hereby given of a change in the meeting of the National Advisory Child Health and Human Development Council, January 26-27, 2026, 12:00 p.m. to 05:00 p.m. to January 26, 2026, 12:00 p.m. to 05:00 p.m., Eunice Kennedy Shriver National Institute of Child, Health and Human Development National Institutes, 6710 B Rockledge Drive, Bethesda, MD 20817 which was published in the Federal Register on September 24, 2025, 90 FR 45955.

Scheduled two-day meeting changed to one day meeting. The meeting is open to the public. Second day rescheduled for March 20, 2025.

Dated: November 25, 2025.
Margaret N. Vardanian,
Program Analyst, Office of Federal Advisory Committee Policy.

[FR Doc. 2025-21866 Filed 12-2-25; 8:45 am]

BILLING CODE 4140-01-P